DEPARTMENT OF HEALTH AND HUMAN SERVICES

Centers for Disease Control and Prevention

[Program Announcement Number 00119]

Core State Injury Surveillance and Program Development Notice of Availability of Funds

A. Purpose

The Centers for Disease Control and Prevention (CDC), announces the availability of fiscal year (FY) 2000 funds for a cooperative agreement program for Core State Injury Surveillance Program Development and Traumatic Brain Injury Surveillance Program Development, focused in three phases: Phase I-Basic Core Injury Program Development; Phase II-Enhanced Core Injury Program Development; and Phase III-Advanced Core Injury Program Development: Surveillance. This Program addresses the health promotion and disease prevention objectives of “Healthy People 2010.” The announcement is related to the focus area of Injury and Violence Prevention. For the conference copy of “Healthy People 2010,” visit the Internet site: http://www.health.gov/healthypeople.

The purposes of the cooperative agreements are to develop, implement and evaluate injury core and/or surveillance programs in one of the specified injury-related priority areas.

B. Eligible Applicants

Assistance will be provided only to the official public health departments of States or their bonafide agents, including the District of Columbia, the Commonwealth of Puerto Rico, the Virgin Islands, the Commonwealth of the Northern Mariana Islands, American Samoa, Guam, the Federated States of Micronesia, the Republic of the Marshall Islands, the Republic of Palau and federally recognized Indian tribal governments. States may apply for Phases I or II, Phases II and III, or Phase III only. States should submit a separate application for each Phase applied for. States previously funded under Announcement number 780 “State and Injury Intervention Surveillance Program”, Part II, Basic Injury Program Development (Georgia, Kansas, Mississippi, and Oregon), are eligible to apply under Phases II and III; States previously funded under Announcement number 99136, “State-Based Core Injury Program Development” (Arkansas, Vermont and Nevada), are eligible to apply under Phase III.

Note: Public Law 104-65 states that an organization described in section 501(c)(4) of the Internal Revenue Code of 1986 which engages in lobbying activities shall not be eligible to receive Federal funds constituting an award, grant (cooperative agreement) contract, loan, or any other form.

C. Availability of Funds

Approximately $1,900,000 is available in FY 2000 to fund approximately 24 awards.

Phase I: Basic Core Injury Program Development.

Approximately $750,000 is available to fund 4-10 States for Core Injury Program Development. The average award amount will be $75,000.

Phase II: Enhanced Core Injury Program Development.

Approximately $750,000 is available to fund up to 16 States for Core Injury Program Development. The average award amount will be $75,000.

Phase III: Advanced Injury Surveillance Program Development: Surveillance.

Approximately $400,000 is available to fund up to 4 States for Injury Surveillance Program Development. The average award amount will be $100,000.

It is expected that the awards will begin on or about September 30, 2000, and will be made for a 12-month budget period within a project period of up to 4 years. Funding estimates may change.

Continuation awards within an approved project period will be made on the basis of satisfactory progress, as evidenced by required reports, and on the availability of funds.

Pre-Application Workshop for New and Competing Applicants:

In addition, for interested applicants, a telephone conference call for pre-application technical assistance will be held on Friday, June 9, 2000, from 1 pm to 2 pm, Eastern Standard Time. The conference name is NCIPC Core Injury, the bridge number for the conference call is 1-800-311-3437, and the pass code is 957144. If you have a problem during your conference, you may press *0 at anytime to signal the attendant. If you have questions, about the technical operations of the teleconference equipment please call 404-639-7550.

D. Program Requirements

In conducting activities to achieve the purpose of this program, the recipient will be responsible for the activities under 1(Recipient Activities)and CDC will be responsible for the activities listed under 2(CDC Activities).

1. Recipient Activities

Phase I: Basic Core Injury Program Development

a. Establish an injury focal point and coordinating process within the public health agency;

b. Establish an injury advisory council to address issues relevant to injury prevention and control in the State;

c. Conduct data review and analysis to determine the availability of data about injury problems and the potential for solutions in the State and region in comparison to the nation and develop an annotated report containing this information;

d. Identify and catalog current and potential injury prevention and control resources within the State; and

e. Develop a State injury plan which is based on data and which is prioritized for the prevention and control of injuries and serves as a resource for other State agencies.

Phase II: Enhanced Core Injury Program Development

In addition to the activities indicated for Phase I, above, applicant will also:

a. Analyze existing data to define the magnitude of the injury problem in the State, the populations at risk, and the causes of injury;

b. Use the 11 recommended core data sets to produce and disseminate written reports on injuries within the State and conduct national comparisons (To obtain a copy of Consensus recommendations, see Where to Obtain Additional Information, Section J);

c. Evaluate data to determine whether data sources can be linked and whether there is any benefit for prevention from linking them;

d. Develop or update a State injury plan which is based on data and which is prioritized for the prevention and control of injuries and serve as a resource for other State agencies;

e. Develop, update, or expand an injury advisory council to provide input on issues relevant to injury prevention and control in the State; and

f. Provide coordination for injury activities of the public health agency.

g. Participate in a process for establishing and reviewing some components (e.g., data collection and analysis; coordination and collaboration; and technical support and training) of the 5 minimum components used to define a Core Injury Program and share with other States, “lessons learned” about and through this process.

Phase III Advanced Core Injury Program Development: Surveillance

a. Develop and enhance capacity for accessing data sets included among the 11 core data sets recommended for injury surveillance;

b. Develop or enhance capacity to conduct injury surveillance for conditions included among the 14 core injuries and injury risk factors recommended for surveillance to include but not be limited to Traumatic Brain Injury (TBI) data; and

c. Analyze and interpret TBI and other surveillance data to support statewide TBI and other injury prevention and control activities, make comparisons with other States and produce and disseminate written reports using 3 or more of the recommended core data sets for injury control. (States funded under Announcement numbers 716 and 98022, while funded under these announcements, will be required to focus on a core factor other than TBI).

2. CDC Activities

a. Provide consultation on planning, implementation, evaluation, data analysis, and dissemination of results;

b. Provide coordination between and among the States, by assisting in the transfer of information and methods developed to other programs, and providing up-to-date information;

c. Provide technical assistance for the Behavioral Risk Factor Surveillance System (BRFSS) and other available specific injury surveillance modules when requested;

d. Operate a process of evaluation and improvement in which lessons learned are shared among other States implementing the same type of program; and

e. Coordinate compilation of “lessons learned” through this process and communicate them.

E. Application Content

Use the information in the Program Requirements, Other Requirements, and Evaluation Criteria sections to develop the application content. Subject to the limitations described under Eligible Applicants, Section B above, States may choose to apply for Phases I or II, Phases II and III, or Phase III. A separate application should be submitted for each Phase (I, II, and III) applied for. Your application will be evaluated on the criteria listed, so it is important to follow them in laying out the program plan. The narrative should be no more than 30 double-spaced pages for each Phase applied for, printed on one side, with one inch margins, no smaller than 12 point Courier Font. Number each page consecutively and provide a complete Table of Contents. The total number of pages should not exceed 100 pages including the appendix. No bound booklets, etc. should be attached.

Competing continuation applicants funded under Program Announcement 780, State and Injury Intervention Surveillance Program, Part II, Basic Injury Program Development, should provide a Progress Report which includes a detailed report on the attainment of objectives and achievements of the program over the preceding three-year period of CDC funding. The applicant should include the accomplishments made with CDC funding covering all areas related to that cooperative agreement. The section should not exceed 5 pages.

F. Submission and Deadline

Letter of Intent (LOI): Prospective applicants are asked to submit, by June 30, 2000, a letter of intent that includes the number and title of the announcement, a descriptive title of the proposed program, the name, address, and telephone number of the Principal Investigator and whether applying for Phase I, Phase II or Phase III funding.

Although a letter of intent is not required, is not binding, and is not used in the review of an application, the information that it contains is used to estimate the potential review workload and avoid conflict of interest in the review. The letter of intent is to be submitted to the Grants Management Specialist listed under the “Where to Obtain Additional Information” section of this announcement.

Application: Submit the original and 2 copies of PHS 5161-1 (OMB Number 0937-0189). Forms are in the application kit. On or before August 8, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Need for Core Program Development (30 Points)

For Phase I Applicants:

The extent to which the applicant describes the need for Core Program funding and the minimal nature of their injury program.

The extent to which the applicant describes the level of agency resources directed toward injury activities, if applicable, and how this additional funding will contribute to efforts to initiate or improve existing or planned injury surveillance activities.

The extent to which the applicant defines the agency's commitment to coordinating injury prevention and control activities through a focal point.

For Phase II Applicants:

The extent to which the applicant describes an existing injury program which continually maintains capacity to conduct injury activities.

For competing continuation applicants—those currently funded under Program Announcement 780, State and Injury Intervention Surveillance Program, Part II, Basic Injury Program Development, the extent to which past activities are presented completely and demonstrate attainment of objectives.

For Phase III Applicants:

The extent to which the applicant presents information describing the nature of an existing injury surveillance program.

The extent to which the applicant presents data and information documenting the agency's capacity and current resources allocated for injury surveillance.

The extent to which the applicant provides evidence of an effective plan for enhancements to its injury surveillance system, which includes the ability to access or link data on some of the 14 core conditions including traumatic brain injury (TBI) in some of the 11 core data sets recommended for injury surveillance.

2. Goals and Objectives (10 Points)

For All Phases:

The extent to which the applicant includes goals which are relevant to the purpose of the proposal and feasible to accomplish during the project period, and the extent to which these are specific and measurable.

The extent to which the applicant has included objectives which are feasible to accomplish during the budget period, and which address all activities necessary to accomplish the purpose of the proposal.

The extent to which the objectives are specific, time-framed, measurable, and realistic.

3. Methods and Staffing (30 Points)

For All Phases:

The extent to which the applicant provides: (1) A detailed description of how staffing resources (including epidemiological resources) will be allocated and used to accomplish each objective and overall program goals, and which includes designation of a coordinator with responsibility for coordinating an injury prevention and control program; (2) indicates a reasonable and complete schedule for implementing and completing all activities; and (3) a description of the roles of each unit, organization, or agency, and evidence of coordination, supervision, and degree of commitment (e.g., time, in-kind, financial) of staff, organizations, and agencies involved in injury surveillance activities and; (4) provides evidence of access or assignment of epidemiological expertise for performing routine data review and analysis activities and providing technical advice and consultation for other State agencies.

4. Evaluation (20 Points)

For All Phases:

The extent to which the proposed evaluation system is detailed, addresses goals and objectives of the program, and will document program process, effectiveness, and impact. The extent to which the applicant demonstrates potential data sources for evaluation purposes and methods to evaluate the data sources, and documents staff availability, expertise, experience, and capacity to perform the evaluation.

The extent to which a feasible plan for reporting evaluation results and using evaluation information for programmatic decisions and continuous program improvement is present.

5. Collaboration (10 Points)

For All Phases:

The extent to which relationships between the program and other organizations, agencies, and health department units that will relate to the program or conduct related activities are clear, complete and provide for complementary or supplementary interactions.

The extent to which advisory group membership and roles are clear and appropriate.

The extent to which relationships with local academic institutions are completely described and appropriate.

The extent to which surveillance, if any, of core injury conditions will be developed and coordinated to enable comparability of TBI and other injury data with other States and jurisdictions.

6. Budget and Justification (Not Scored)

For All Phases:

The extent to which the applicant provides a detailed budget and narrative justification consistent with stated objectives and planned program activities.

H. Other Requirements

Technical Reporting Requirements

Provide CDC with original plus 2 copies of:

1. Semi-annual progress reports.

2. Financial status report, no more than 90 days after the end of the budget period.

3. Final financial and performance reports, no more than 90 days after the end of the project period.

Send all reports to the Grants Management Specialist identified in the “Where to Obtain Additional Information” section of this announcement.

For descriptions of the following Other Requirements, see Attachment I in the application package:

AR-7—Executive Order 12372 Review

AR-9—Paperwork Reduction Act Requirements

AR-10—Smoke-Free Workplace Requirements

AR-11—Healthy People 2010

AR-12—Lobbying Restrictions

AR-13—Prohibition on Use of CDC Funds for Certain Gun Control Activities

I. Authority and Catalog of Federal Domestic Assistance Number

This program is authorized under sections 301(a) and 317k(2) [42 U.S.C. 241(a) and 247b(k)(2)] of the Public Health Service Act, as amended.

J. Where To Obtain Additional Information

This and other CDC announcements are available through the CDC homepage on the Internet at: http://www.cdc.gov. To receive additional written information and to request an application kit, call 1-888-GRANTS4 (1-888 472-6874). You will be asked to leave your name and address and will be instructed to identify the announcement number of interest.

If you have questions after reviewing the contents of all the documents, business management assistance may be obtained from: Joanne Wojcik, Grants Management Specialist, Announcement #00119, Grants Management Branch, Procurement and Grants Office, Centers for Disease Control and Prevention, 2920 Brandywine Road, Suite 3000, Atlanta, GA 30341-4146, Telephone number (770) 488-2717, Email address jcw6@cdc.gov

For program technical assistance, contact: Cecil Threat, Jr., National Center for Injury Prevention and Control, Centers for Disease Control and Prevention, 4770 Buford Highway, NE, Mailstop K02, Atlanta, GA 30341-3724, Telephone (770) 488-1236, Email address: ctt3@cdc.gov.

To obtain a copy of The Consensus Recommendations for Injury Surveillance in State Health Departments, September 1999, contact STIPDA at 2141 Kingston Ct., Ste. 110-B, Marietta, GA 30067, 770-690-9000. You can also view and print this document from the STIPDA webpage: www.stipda.org (From the STIPDA homepage, click-on the Publications link; scroll down and select the publication indicated above.)

Dated: May 30, 2000.
John L. Williams,
Director, Procurement and Grants Office, Centers for Disease Control and Prevention (CDC).

[FR Doc. 00-13938 Filed 6-2-00; 8:45 am]

BILLING CODE 4163-18-P